DEPARTMENT OF THE TREASURY

Office of Foreign Assets Control

Notice of OFAC Sanctions Action

AGENCY: Office of Foreign Assets Control, Treasury.

ACTION: Notice.

SUMMARY: The U.S. Department of the Treasury's Office of Foreign Assets Control (OFAC) is publishing the names of persons and vessels that have been placed on OFAC's Specially Designated Nationals and Blocked Persons List (SDN List) based on OFAC's determination that one or more applicable legal criteria were satisfied. All property and interests in property subject to U.S. jurisdiction of these persons and vessels are blocked, and U.S. persons are generally prohibited from engaging in transactions with them.

DATES: See SUPPLEMENTARY INFORMATION section for effective date(s).

FOR FURTHER INFORMATION CONTACT: OFAC: Bradley T. Smith, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The Specially Designated Nationals and Blocked Persons List and additional information concerning OFAC sanctions programs are available on OFAC's website (https://www.treasury.gov/ofac).

Notice of OFAC Action(s)

On December 1, 2023, OFAC determined that the property and interests in property subject to U.S. jurisdiction of the following persons are blocked under the relevant sanctions authority listed below.

Entities

1. HS ATLANTICA LIMITED, 80 Broad Street, Monrovia, Liberia; Identification Number IMO 6356766 [RUSSIA-EO14024].

Designated pursuant to section 1(a)(i) of Executive Order 14024 of April 15, 2021, “Blocking Property With Respect To Specified Harmful Foreign Activities of the Government of the Russian Federation,” 86 FR 20249, 3 CFR, 2021 Comp., p. 542 (Apr. 15, 2021) (E.O. 14024) for operating or having operated in the marine sector of the Russian Federation economy.

2. STERLING SHIPPING INCORPORATED, Unit 27610-001, Building A1, IFZA Business Park, Dubai Silicon Oasis, Dubai, United Arab Emirates; Identification Number IMO 5206051 [RUSSIA-EO14024].

Designated pursuant to section 1(a)(i) of E.O. 14024 for operating or having operated in the marine sector of the Russian Federation economy.

3. STREYMOY SHIPPING LIMITED, Unit 27610-001, Building A1, IFZA Business Park, Dubai Silicon Oasis, Dubai, United Arab Emirates; 80 Broad Street, Monrovia, Liberia; Identification Number IMO 5724311 [RUSSIA-EO14024].

Designated pursuant to section 1(a)(i) of E.O. 14024 for operating or having operated in the marine sector of the Russian Federation economy.

On December 1, 2023, OFAC also identified the following vessels as property in which a blocked person has an interest, under the relevant sanctions authority listed below:

Vessels

1. HS ATLANTICA (5LIP5) Crude Oil Tanker Liberia flag; Vessel Registration Identification IMO 9322839; MMSI 636022401 (vessel) [RUSSIA-EO14024] (Linked To: HS ATLANTICA LIMITED).

Identified as property in which HS Atlantica Limited, a person whose property and interests in property are blocked pursuant to E.O. 14024, has an interest.

2. NS CHAMPION (A8FD9) Crude Oil Tanker Liberia flag; Vessel Registration Identification IMO 9299719; MMSI 636012384 (vessel) [RUSSIA-EO14024] (Linked To: STERLING SHIPPING INCORPORATED).

Identified as property in which Sterling Shipping Incorporated, a person whose property and interests in property are blocked pursuant to E.O. 14024, has an interest.

3. VIKTOR BAKAEV (D5BN6) Crude Oil Tanker Liberia flag; Vessel Registration Identification IMO 9610810; MMSI 636015565 (vessel) [RUSSIA-EO14024] (Linked To: STREYMOY SHIPPING LIMITED).

Identified as property in which Streymoy Shipping Limited, a person whose property and interests in property are blocked pursuant to E.O. 14024, has an interest.

Dated: December 1, 2023.
Gregory T. Gatjanis,
Associate Director, Office of Foreign Assets Control, U.S. Department of the Treasury.

[FR Doc. 2023-26766 Filed 12-5-23; 8:45 am]

BILLING CODE 4810-AL-P